DEPARTMENT OF TRANSPORTATION

Surface Transportation Board

[Docket No. FD 35774]

Youngstown & Southeastern Railway Company—Operation Exemption—Mule Sidetracks, L.L.C.

Youngstown & Southeastern Railway Company (Y&SR), a Class III rail carrier, has filed a verified notice of exemption under 49 CFR 1150.41 to continue to operate a line of railroad that extends 35.7 miles between milepost 0.0 in Youngstown, Ohio, and milepost 35.7 in Darlington, Pa. (the Line). The Line is currently owned by Columbiana County Port Authority (CCPA) and has been operated by Y&SR under a lease from CCPA. In addition, Y&SR will operate as an agent of, and in the name of, Mule Sidetracks, L.L.C. (MSLLC), three miles of contiguous track segments, running east of milepost 0.0 and connecting to the Line, that are being permanently assigned by CCPA to MSLLC and will facilitate interchange with Norfolk Southern Railway Company (NSR) and CSX Transportation, Inc. (CSXT).¹

¹ These operating rights are found in the following agreements: (1) Overhead Trackage Rights Agreement dated May 7, 2001, between Ohio & Pennsylvania Railroad Company (OHPA) and Central Columbiana & Pennsylvania Railway, Inc. (CQPA), to which CCPA is successor; (2) Letter Agreement regarding yard operations dated November 30, 2001, between OHPA, CQPA, and CCPA; (3) Interchange Agreement dated July 23, 2002, as amended and in effect, among CSXT, OHPA, and CQPA and Interline Service Agreement, effective April 1, 2004, between CSXT and CQPA, to which CCPA is successor; (4) Land Lease dated August 8, 2003, between CSXT and CQPA, which was assumed by CCPA, effective January 3, 2006; (5) Interchange Agreement dated May 1, 2001, and Interline Service Agreement, effective October 5, 2004, between CQPA and NSR, to which CCPA is successor; (6) Easements granted by Allied Erecting & Dismantling Company, Inc. to The Pittsburgh and Lake Erie Railroad Company by agreements dated June 3, 1992, and November 10, 1993, and easements retained by PLE in deeds dated June 3, 1992, and November 10, 1993, from PLE to Allied (Allied Easements), which Allied Easements were conveyed by Youngstown and Southern Railway Company to Railroad Ventures, Inc. (RVI) by deed dated November 8, 1996, and by RVI to CCPA by deed dated January 23, 2001, and were included in the rights granted to CQPA by CCPA, including rights over the C.P. Graham Interlocking, and which collective rights were also conferred on CCPA by order of the Bankruptcy Court dated March 28, 2002, in In re: Pittsburgh & Lake Erie Properties, Inc., Case No. 96-406, and to which CCPA is successor; and (7) Operating Rights Agreement between Matteson Equipment Company (Matteson) and CQPA; and Operating Rights Agreement between Eastern States Railroad, LLC (ESR) and Matteson dated July 14, 2006, to which CCPA is successor.

This transaction is related to a verified notice of exemption filed in Mule Sidetracks, L.L.C.—Acquisition Exemption—Columbiana County Port Authority, FD 35773, by which MSLLC seeks an exemption to acquire from CCPA the Line as well as assignment of CCPA's agreements and operating rights to the three miles of connecting track east of milepost 0.0.

The transaction may be consummated on or after November 12, 2013, the effective date of the exemption.²

² This notice was scheduled to be published in the Federal Register during the time that the agency was closed due to a lapse in appropriations. Because publication of this notice has been delayed, the effective date of the exemption will also be delayed to provide adequate notice to the public.

Y&SR certifies that its projected annual revenues as a result of this transaction will not exceed $5 million annually and will not result in Y&SR becoming a Class I or Class II carrier.

If the verified notice contains false or misleading information, the exemption is void ab initio. Petitions to revoke the exemption under 49 U.S.C. 10502(d) may be filed at any time. The filing of a petition to revoke will not automatically stay the effectiveness of the exemption. Petitions to stay must be filed no later than November 5, 2013 (at least seven days before the exemption becomes effective).

An original and 10 copies of all pleadings, referring to Docket No. FD 35774, must be filed with the Surface Transportation Board, 395 E Street SW., Washington, DC 20423-0001. In addition, a copy of each pleading must be served on John D. Heffner, Strasburger & Price, LLP, 1700 K Street NW., Suite 640, Washington, DC 20006.

Board decisions and notices are available on our Web site at “WWW.STB.DOT.GOV”.

Decided: October 24, 2013.
By the Board, Rachel D. Campbell, Director, Office of Proceedings.
Jeffrey Herzig,
Clearance Clerk.

[FR Doc. 2013-25565 Filed 10-28-13; 8:45 am]

BILLING CODE 4915-01-P